DEPARTMENT OF ENERGY

Federal Energy Regulatory Commission

[Docket No. EL01-115-002, et al.]

Kinder Morgan Power Company, et al.; Electric Rate and Corporate Regulation Filings

December 17, 2001.

Take notice that the following filings have been made with the Commission. Any comments should be submitted in accordance with Standard Paragraph E at the end of this notice.

1. Kinder Morgan Power Company v. Southern Company Services, Inc.

[Docket No. EL01-115-002]

Take notice that on December 10, 2001, Southern Companies Services, Inc. tendered for filing with the Federal Energy Regulatory Commission (Commission) a compliance filing pursuant to the Commission's Order issued on November 23, 2001.

Comment Date: January 9, 2002.

2. Illinois Power Company

[Docket No. ER96-185-003]

Take notice that on December 11, 2001, Illinois Power Company (Illinois Power), filed with the Federal Energy Regulatory Commission (Commission) a motion requesting a waiver of the requirement to file a market analysis in this proceeding. Illinois Power states that upon acceptance of the Emergency Energy Tariff filed in Docket No. ER02-399-000 it will file a notice of cancellation of the Power Sales Tariff accepted in this proceeding.

Illinois Power states that a copy of its motion has been mailed to each person on the official service list in this proceeding, each party having a service agreement under the Power Sales Tariff and each MAIN member currently participating in the Callable Reserves Emergency Energy Procedure under MAIN Guide No. 5B.

Comment Date: January 2, 2002.

3. Western Resources, Inc.

[Docket No. ER01-3105-001]

Take notice that on December 12, 2001, Western Resources, Inc. (WR) tendered for filing with the Federal Energy Regulatory Commission (Commission) a refiling of the Electric Interchange Agreement between WR and Kansas City Power & Light in compliance with Order 614 as required by the acceptance letter dated November 20, 2001.

WR request and effective date of September 26, 2001.

Comment Date: January 3, 2002.

4. Ameren Services Company

[Docket No.ER02-196-001]

Take notice that on December 12, 2001, Ameren Services Company (ASC) tendered for filing a Network Integration Transmission Service Agreement and Network Operating Agreement between ASC and Illinois Municipal Electric Agency. ASC asserts that the purpose of the Agreement is to replace the unexecuted Agreements in Docket No. ER 02-196-000 with the executed Agreements.

Comment Date: January 2, 2002.

5. Midwest Independent Transmission System Operator, Inc.

[Docket No. ER02-485-000]

Take notice that on December 13, 2001, the Midwest Independent Transmission System Operator, Inc. (Midwest ISO) submitted revisions to Attachment N (Recovery of Costs Associated with New Facilities) of the Midwest ISO Open Access Transmission Tariff to implement specific ROE and accelerated depreciation incentives.

Comment Date: January 2, 2002.

6. Ameren Services Company

[Docket No. ER02.-525-000]

Take notice that on December 11, 2001, Ameren Services Company (ASC) tendered for filing Service Agreements for Firm Point-to-Point Transmission Service and Non-Firm Point-to-Point Transmission Service between ASC and Dominion Nuclear Marketing II, Inc. ASC asserts that the purpose of the Agreements is to permit ASC to provide transmission service to Dominion Nuclear Marketing II, Inc. pursuant to Ameren's Open Access Transmission Tariff.

Comment Date: January 2, 2002.

7. Central Vermont Public Service Corporation, and Green Mountain Power Company

[Docket No. ER02-528-000]

Take notice that on December 12, 2001, Central Vermont Public Service Corporation (CVPS), Green Mountain Power Corporation (GMP), and Vermont Electric Power Company, Inc. (VELCO) tendered for filing termination agreements and subsequent amendments to VELCO's Electric Rate Schedule FERC No. 234 (Rate Schedule 234) effective February 28, 2002.

The proposed termination agreements reflect that the City of Burlington Electric Department, Village of Lyndonville Electric Department, Village of Northfield Electric Department, Village of Orleans Electric Department, Town of Hardwick Electric Department, Town of Stowe Electric Department and Washington Electric Cooperative, Inc. (collectively, the Vermont Secondary Purchasers) and VELCO have mutually agreed to terminate their power purchase agreements under Rate Schedule No. 234.

Copies of the filing were served upon the all affected parties to the amended rate schedule and the Vermont Public Service Board.

Comment Date: January 2, 2002.

8. American Transmission Company LLC

[Docket No. ER02-529-000]

Take notice that on December 12, 2001, American Transmission Company LLC (ATCLLC) tendered for filing an executed Generation-Transmission Interconnection Agreement between ATCLLC and Cloverland Electric Cooperative.

ATCLLC requests an effective date of June 29, 2001.

Comment Date: January 2, 2002.

9. Duke Energy Marshall County, LLC

[Docket No. ER02-530-000]

Take notice that on December 12, 2001, Duke Energy Marshall County, LLC (Duke Marshall) tendered for filing with the Federal Energy Regulatory Commission (Commission) pursuant to section 205 of the Federal Power Act its proposed FERC Electric Tariff No. 1.

Duke Marshall seeks authority to sell energy and capacity, as well as ancillary services, at market-based rates, together with certain waivers and preapprovals. Duke Marshall also seeks authority to sell, assign, or transfer transmission rights that it may acquire in the course of its marketing activities. Duke Marshall requests pursuant to section 35.11 of the Commission's regulations that the Commission waive the 60-day minimum notice requirement under section 35.3(a) of its regulations and grant an effective date for this application of February 1, 2002, the date on which Duke Marshall anticipates commencing the sale of test energy.

Comment Date: January 2, 2002.

10. American Transmission Company LLC

[Docket No. ER02-531-000]

Take notice that on December 12, 2001, American Transmission Company LLC (ATCLLC) tendered for filing an executed Distribution-Transmission Interconnection Agreement between ATCLLC and the City of Plymouth.

ATCLLC requests an effective date of June 25, 2001.

Comment Date: January 2, 2002.

11. California Independent System Operator Corporation

[Docket No. ER02-532-000]

Take notice that on December 13, 2001, the California Independent System Operator Corporation tendered for filing an Amendment to Schedule 1 of the Participating Generator Agreement between the ISO and Southern California Edison Company (SoCal Edison) for acceptance by the Commission. The ISO states that this filing has been served on SoCal Edison and the California Public Utilities Commission.

The ISO is requesting waiver of the 60-day notice requirement to allow the Participating Generator Agreement to be made effective December 13, 2001.

Comment Date: January 3, 2002.

12. The Potomac Edison Company

[Docket No.ER02-533-000]

Take notice that on December 13, 2001, Allegheny Energy Service Corporation on behalf of The Potomac Edison Company (Potomac Edison), submitted a Notice of Cancellation of Service Agreement No. 22 (including its Amendments and Supplements) with Old Dominion Electric Cooperative, a customer under Potomac Edison's Rate Schedule designated as FERC Electric Tariff, Fourth Revised Volume No. 2.

Potomac Edison has requested a waiver of notice to allow the cancellation to be effective January 1, 2002.

Comment Date: January 3, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31466 Filed 12-20-01; 8:45 am]

BILLING CODE 6717-01-P